INTERNATIONAL TRADE COMMISSION

[Investigation No. 731-TA-125 (Third Review)]

Potassium Permanganate From China Determination

On the basis of the record ¹ developed in the subject five-year review, the United States International Trade Commission (Commission) determines, pursuant to section 751(c) of the Tariff Act of 1930 (19 U.S.C. 1675(c)), that revocation of the antidumping duty order on potassium permanganate from China would be likely to lead to continuation or recurrence of material injury to an industry in the United States within a reasonably foreseeable time.

¹ The record is defined in sec. 207.2(f) of the Commission's Rules of Practice and Procedure (19 CFR 207.2(f)).

Background

The Commission instituted this review on May 3, 2010 (75 FR 23298) and determined on August 6, 2010 that it would conduct an expedited review (75 FR 51112, August 18, 2010).

The Commission transmitted its determination in this review to the Secretary of Commerce on September 30, 2010. The views of the Commission are contained in USITC Publication 4183 (September 2010), entitled Potassium Permanganate from China: Investigation No. 731-TA-125 (Third Review).

Issued: October 1, 2010.
By order of the Commission.
William R. Bishop,
Acting Secretary to the Commission.

[FR Doc. 2010-26112 Filed 10-15-10; 8:45 am]

BILLING CODE P